COMMITTEE FOR PURCHASE FROM PEOPLE WHO ARE BLIND OR SEVERELY DISABLED

Public Meeting

AGENCY: Committee for Purchase From People Who Are Blind or Severely Disabled.

ACTION: Notice of public meeting.

DATES: July 24, 2025, from 1 p.m. to 4 p.m. ET.

ADDRESSES: The meeting will be held virtually only via Zoom webinar.

FOR FURTHER INFORMATION CONTACT: Angela Phifer, 355 E Street SW, Suite 325, Washington, DC 20024; (703) 798-5873; CMTEFedReg@AbilityOne.gov.

SUPPLEMENTARY INFORMATION:

Background: The Committee for Purchase From People Who Are Blind or Severely Disabled is an independent Federal agency operating as the U.S. AbilityOne Commission. It oversees the AbilityOne Program, which provides employment opportunities through Federal contracts for people who are blind or have significant disabilities in the manufacture and delivery of products and services to the Federal Government. The Javits-Wagner-O'Day Act (41 U.S.C. chapter 85) authorizes the contracts.

Registration: Attendees not requesting speaking time should register not later than July 23, 2025. Attendees requesting speaking time must register not later than July 15, 2025, and use the comment fields in the registration form to specify the intended speaking topic(s). The registration link will be available on the Commission's home page, www.abilityone.gov, under News and Events.

Commission Statement: This regular quarterly meeting will include updates from the Commission Chairperson, Executive Director, and Acting Inspector General.

Public Participation: The public engagement session will discuss the Commission's draft Strategic Plan for FY 2026-2030. More information regarding the plan will be provided on www.abilityone.gov prior to the meeting. Additionally, the Commission will discuss, to the extent it relates to the AbilityOne Program, the initiative to streamline and simplify the Federal Acquisition Regulation—i.e., the “Revolutionary FAR Overhaul” described at https://www.acquisition.gov/far-overhaul—also referenced in Executive Order 14275 “Restoring Common Sense To Federal Procurement” at https://www.whitehouse.gov/presidential-actions/2025/04/restoring-common-sense-to-federal-procurement/ and the associated fact sheet at https://www.whitehouse.gov/fact-sheets/2025/04/fact-sheet-president-donald-j-trump-restores-common-sense-to-federal-procurement/. The Commission invites suggestions for AbilityOne guidance to accompany the revised FAR—e.g., best practices, tools, work aids, examples, etc. Suggestions will be considered as part of developing content for documents such as the Federal “Buying Guides” referenced in the OMB memo “Overhauling the Federal Acquisition Regulation” at https://www.acquisition.gov/sites/default/files/page_file_uploads/M-25-26-Overhauling-the-Federal-Acquisition-Regulation-002.pdf.

The Commission looks forward to receiving comments and suggestions on the public engagement topics. During registration, you may choose to submit comments, or you may request speaking time at the meeting. The Commission may invite some attendees who submit advance comments to discuss their comments during the meeting. Comments submitted will be reviewed by staff and the Commission members before the meeting. Comments posted in the chat box during the meeting will be shared with the Commission members after the meeting. The Commission is not subject to the requirements of 5 U.S.C. 552(b); however, the Commission published this notice to encourage the broadest possible participation in its meeting.

Personal Information: Speakers should not include any information that they do not want publicly disclosed.

Michael R. Jurkowski,
Director, Business Operations.

[FR Doc. 2025-11393 Filed 6-18-25; 8:45 am]

BILLING CODE 6353-01-P